DEPARTMENT OF COMMERCE

International Trade Administration

[C-475-821]

Certain Cut-to-Length Plate From Italy: Notice of Decision of the Court of International Trade

AGENCY: Import Administration, International Trade Administration, Department of Commerce.

ACTION: Notice of decision of the Court of International Trade: Certain cut-to-length plate from Italy.

SUMMARY: On March 26, 2004, the United States Court of International Trade (CIT) sustained the Department of Commerce's (the Department) Redetermination Results in all respects. See ILVA Lamiere e Tubi S.p.A. v. United States, Court No. 00-03-00127, Slip. Op. 04-29 (CIT, March 26, 2004) (“Ilva v. United States”). Consistent with the decision of the United States Court of Appeals for the Federal Circuit (“Federal Circuit”) in Timken Co. v. United States, 893 F.2d 337 (Fed. Cir. 1990) (“Timken”), the Department is notifying the public that the Ilva v. United States decision along with the CIT's earlier opinions and orders in this case, discussed below, were “not in harmony” with the Department's original results.

EFFECTIVE DATE: April 16, 2004.

FOR FURTHER INFORMATION CONTACT: Margaret Ward, Office of AD/CVD Enforcement VI, Group II, Import Administration, International Trade Administration, U.S. Department of Commerce, 14th Street and Constitution Ave., NW., Washington, DC 20230; telephone: (202) 482-4161.

SUPPLEMENTARY INFORMATION:

Background

On December 29, 1999, the Department of Commerce (“the Department”) published a notice of its final determination in the countervailing duty investigation in certain cut-to-length carbon quality steel plate from Italy. See Final Affirmative Countervailing Duty Determination: Certain Cut-to length Carbon Quality Steel Plate from Italy, 64 FR 73244 (December 29, 1999) (“Italian Plate”). ILVA S.p.A. and ILVA Lamieri e Tubi S.r.l (”Ilva”) challenged this determination before the CIT arguing, in relevant part, that the Department misapplied its change in ownership methodology. On August 30, 2000, the CIT granted the Department's request for a voluntary remand, and remanded the Italian Plate proceeding to the Department with instructions to: “issue a determination consistent with United States law, interpreted pursuant to all relevant authority, including the decision of the Court of Appeals for the Federal Circuit in Delverde, S.r.l. v. United States, 202 F.3d 1360 (Fed. Cir. 2000).” ILVA v. United States, Remand Order (CIT, August 30, 2000). The Department issued its remand results on December 28, 2000. Final Results of Redetermination Pursuant to Court Remand: ILVA Lamiere e Tubi S.p.A. v. United States Remand Order (CIT, August 30, 2000) (December 28, 2000).

On March 29, 2002, the CIT remanded the Italian Plate proceeding to the Department, and ordered the Department to reexamine the facts of the proceeding pursuant to its instructions. Ilva v. United States, Slip. Op. 02-32 (CIT, March 29, 2002). The Department complied with the court's instructions, under protest, and issued its second redetermination on July 2, 2002. Results of Redetermination Pursuant to Court Remand: ILVA Lamiere e Tubi S.r.L and Ilva S.p.A., Remand Order (CIT, March 29, 2002) (July 2, 2002).

On July 29, 2003, the CIT affirmed the Department's second redetermination in part, and reversed it in part. Ilva v. United States, Slip. Op. 03-97 (CIT, July 29, 2003). The CIT affirmed the Department's application of the court ordered methodology, but remanded the proceeding, ordering the Department to resolve one issue, still outstanding, pursuant to the CIT's prescribed methodology. The Department complied with the court's instructions, under protest, and issued its third redetermination on August 28, 2003. Results of Redetermination Pursuant to Court Remand: ILVA Lamiere e Tubi S.r.L and Ilva S.p.A., Remand Order (CIT, July 29, 2003) (August 28, 2003). On March 26, 2004, the CIT sustained the Department's Redetermination Results in all respects.

Timken Notice

In its decision in Timken, the Federal Circuit held that, pursuant to 19 U.S.C. 1516a(e), the Department must publish notice of a decision of the CIT which is “not in harmony” with the Department's results. The CIT's decision in Ilva v. United States was not in harmony with the Department's final countervailing duty determination. Therefore, publication of this notice fulfills the obligation imposed upon the Department by the decision in Timken. In addition, this notice will serve to continue the suspension of liquidation. If this decision is not appealed, or if appealed, if it is upheld, the Department will publish amended final countervailing duty results.

Dated: April 9, 2004.
James J. Jochum,
Assistant Secretary for Import Administration.

[FR Doc. 04-8693 Filed 4-15-04; 8:45 am]

BILLING CODE 3510-DS-P